FEDERAL MARITIME COMMISSION

[Docket No. 23-14]

D.F. Young, Incorporated, Complainant v. Wallenius Wilhelmsen Logistics, Respondent; Notice of Filing of Complaint and Assignment

Served: December 13, 2023.

Notice is given that a complaint has been filed with the Federal Maritime Commission (the “Commission”) by D.F. Young, Incorporated (the “Complainant”) against Wallenius Wilhelmsen Logistics (the “Respondent”). Complainant states that the Commission has jurisdiction over the complaint pursuant to 46 U.S.C. 41301, 40904, 41102, and 41104 and 46 CFR 515.42.

Complainant is a corporation organized and existing under the laws of Pennsylvania with a principal place of business in Berwyn, Pennsylvania and is in the business of providing services as an ocean transportation intermediary and operates as a non-vessel operating common carrier.

Complainant identifies Respondent as a corporation organized and existing under the laws of New York with a principal place of business in Parsippany, New Jersey and as a common carrier of goods by water for hire.

Complainant alleges that Respondent violated 46 U.S.C. 41102 and 46 CFR 515.42 regarding a failure to establish, observe, and enforce just and reasonable practices relating to receiving, handling, storing, and delivering property and a failure to pay compensation when the common carrier's tariff provides for such payment. Complainant alleges these violations arose from a refusal to compensate for freight forwarding services on shipments of automobiles in accordance with the terms of the applicable tariff following demand for such compensation.

An answer to the complaint must be filed with the Commission within 25 days after the date of service.

The full text of the complaint can be found in the Commission's electronic Reading Room at https://www2.fmc.gov/readingroom/proceeding/23-14/. This proceeding has been assigned to the Office of Administrative Law Judges. The initial decision of the presiding judge shall be issued by December 13, 2024, and the final decision of the Commission shall be issued by June 27, 2025.

Alanna Beck,
Federal Register Alternate Liaison Officer, Federal Maritime Commission.

[FR Doc. 2023-27823 Filed 12-18-23; 8:45 am]

BILLING CODE 6730-02-P